NUCLEAR REGULATORY COMMISSION

[NRC-2014-0232]

Applicability of ASME Code CaseN-770-1, as Conditioned by Federal Regulation, to Branch Connection Butt Welds

AGENCY: Nuclear Regulatory Commission.

ACTION: Draft regulatory issue summary; request for comment.

SUMMARY: The U.S. Nuclear Regulatory Commission (NRC) is seeking public comment on draft regulatory issue summary (RIS) 2014-XX. This draft RIS is addressed to all holders of an operating license or construction permit for a pressurized water nuclear power reactor under the NRC's regulations, except those who have permanently ceased operations and have certified that fuel has been permanently removed from the reactor vessel. This draft RIS would inform these entities about reactor coolant system Alloy 82/182 branch connection dissimilar metal nozzle weld that may be of a butt weld configuration and therefore require inspection under the NRC's regulations. This RIS also informs these entities of a licensee's recent misclassification and missed inspections to Alloy 82/182 dissimilar metal butt welds in branch connections of primary coolant loop piping.

DATES: Submit comments by December 8, 2014. Comments received after this date will be considered if it is practical to do so, but the NRC is able to assure consideration only for comments received on or before this date.

ADDRESSES: You may submit comment by any of the following methods (unless this document describes a different method for submitting comments on a specific subject):

• Federal Rulemaking Web site: Go to http://www.regulations.gov and search for Docket ID NRC-2014-0232. Address questions about NRC dockets to Carol Gallagher; telephone: 301-287-3422; email: Carol.Gallagher@nrc.gov. For technical questions, contact the individual(s) listed in the FOR FURTHER INFORMATION CONTACT section of this document.

• Mail comments to: Cindy Bladey, Office of Administration, Mail Stop: 3WFN, 06-44M, U.S. Nuclear Regulatory Commission, Washington, DC 20555-0001.

For additional direction on accessing information and submitting comments, see “Obtaining Information and Submitting Comments” in the SUPPLEMENTARY INFORMATION section of this document.

FOR FURTHER INFORMATION CONTACT: Tanya Mensah, telephone: 301-415-3610, email: Tanya.Mensah@nrc.gov; or Jay Collins, telephone: 301-415-4038, email: Jay.Collins@nrc.gov, both are staff of the Office of Nuclear Reactor Regulation, U.S. Nuclear Regulatory Commission, Washington, DC 20555-0001.

SUPPLEMENTARY INFORMATION:

I. Obtaining Information and Submitting Comments

A. Obtaining Information

Please refer to Docket ID NRC-2014-0232 when contacting the NRC about the availability of information for this action. You may obtain publicly-available information related to this action by the following methods:

• Federal Rulemaking Web site: Go to http://www.regulations.gov and search for Docket ID NRC-2014-0232.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft RIS is available in ADAMS under Accession No. ML14196A065.

• NRC's PDR: You may examine and purchase copies of public documents at the NRC's PDR, Room O1-F21, One White Flint North, 11555 Rockville Pike, Rockville, Maryland 20852.

B. Submitting Comments

Please include Docket ID NRC-2014-0232 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The NRC issues RISs to communicate with stakeholders on a broad range of regulatory matters. This may include communicating staff technical positions on matters that have not been communicated to or are not broadly understood by the nuclear industry. The NRC staff has developed draft RIS 2014-XX, “Applicability of ASME Code Case N-770-1 As Conditioned In 10 CFR 50.55a, “Codes and Standards,” To Branch Connection Butt Welds,” to inform addresses about reactor coolant system Alloy 82/182 branch connection dissimilar metal nozzle welds that may be of a butt weld configuration and therefore require inspection under 10 CFR 50.55a(g)(6)(ii)(F). The RIS, if issued in final form, would be used by all holders of an operating license or construction permit for a pressurized water nuclear power reactor under 10 CFR Part 50, “Domestic Licensing of Production and Utilization Facilities,” except those who have permanently ceased operations and have certified that fuel has been permanently removed from the reactor vessel. The draft RIS explains that these entities should review this information for applicability to their Alloy 600 management plan to ensure all applicable butt welds are being inspected.

Dated at Rockville, Maryland, this 20th day of October, 2014.
For the Nuclear Regulatory Commission.
Tanya Mensah,
Acting Chief, Generic Communications Branch, Division of Policy and Rulemaking, Office of Nuclear Reactor Regulation.

[FR Doc. 2014-25227 Filed 10-22-14; 8:45 am]

BILLING CODE 7590-01-P